DEPARTMENT OF COMMERCE

Bureau of Industry and Security

[Docket No. 201228-0359]

RIN 0694-XC068

Change in Deadline for Public Comments on Condition of the Public Health Industrial Base and Recommend Policies and Actions To Strengthen the Public Health Industrial Base To Ensure Essential Medicines, Medical Countermeasures, and Critical Inputs Are Made in the United States

AGENCY: Bureau of Industry and Security, Office of Technology Evaluation, U.S. Department of Commerce.

ACTIONS: Notice on reopening comment period for previously published notice of request for public comments.

SUMMARY: On December 2, 2020, the Bureau of Industry and Security (BIS) within the Department of Commerce (Commerce), published the Notice of Request for Public Comments on Condition of the Public Health Industrial Base and Recommend Policies and Actions to Strengthen the Public Health Industrial Base to Ensure Essential Medicines, Medical Countermeasures, and Critical Inputs Are Made in the United States. The December 2 notice invited interested parties to submit written comments, data, analyses, or other information pertinent to the investigation to BIS. The deadline for written comments was December 23, 2020. In response to requests from the public for additional time, this notice reopens the deadline for the submission of public comment until January 15, 2021. Comments previously submitted need not be resubmitted and will be fully considered.

DATES: The comment period for the document published at 85 FR 77428 on December 2, 2020, is reopened. The due date for filing comments is January 15, 2021.

ADDRESSES: Submissions: All written comments on the notice must be addressed to PHIB Study and filed through the Federal eRulemaking Portal: http://www.regulations.gov. To submit comments via http://www.regulations.gov, enter docket number BIS-2020-0034 on the home page and click “search.” The site will provide a search results page listing all documents associated with this docket. Find a reference to this notice and click on the link entitled “Comment Now!” (For further information on using http://www.regulations.gov, please consult the resources provided on the website by clicking on “How to Use This Site.”)

FOR FURTHER INFORMATION CONTACT: Jason Bolton at 202-482-5936 or via email Jason.Bolton@bis.doc.gov; PHIBstudy@bis.doc.gov.

SUPPLEMENTARY INFORMATION:

Background

On December 2, 2020, BIS published the Notice of Request for Public Comments on Condition of the Public Health Industrial Base and Recommend Policies and Actions to Strengthen the Public Health Industrial Base to Ensure Essential Medicines, Medical Countermeasures, and Critical Inputs Are Made in the United States (85 FR 77428) (December 2 notice). The December 2 notice specified that on August 6, 2020, President Trump issued Executive Order 13944, Combating Public Health Emergencies and Strengthening National Security by Ensuring Essential Medicines, Medical Countermeasures, and Critical Inputs Are Made in the United States (E.O. 13944). Among other directives, E.O. 13944 directed that, by February 2, 2021, the Secretary of Commerce shall submit a report to the Director of the Office of Management and Budget, the Assistant to the President for National Security Affairs, the Director of the National Economic Council, and the Director of the Office of Trade and Manufacturing Policy, describing any change in the status of the Public Health Industrial Base (PHIB) and recommending initiatives to strengthen the PHIB. The December 2 notice requested comments from the public to assist Commerce in preparing this report on the status and condition of the PHIB and recommending policies and actions to strengthen it. (See the December 2 notice for additional details on E.O. 13944 and the request for public comments.)

Change in Public Comment Deadline

The December 2 notice included a comment period deadline of December 23, 2020. Commerce has determined that an extension of the comment period is warranted, following requests from the public on the matter. While comments may be submitted at any time, this notice specifies that comments must be received by January 15, 2021, to be considered in the drafting of the final report. This notice reopens the comment period to allow for additional time for the public to submit comments. Comments previously submitted need not be resubmitted and will be fully considered.

Matthew S. Borman,
Deputy Assistant Secretary for Export Administration.

[FR Doc. 2020-29036 Filed 12-29-20; 4:15 pm]

BILLING CODE 3510-33-P